DEPARTMENT OF VETERANS AFFAIRS

Fund Availability Under the VA Homeless Providers Grant and Per Diem Program

AGENCY: Department of Veterans Affairs.

ACTION: Notice.

SUMMARY: The Department of Veterans Affairs (VA) is announcing the availability of funds for applications for assistance under the Capital Grant component of VA's Homeless Providers Grant and Per Diem Program. This notice contains information concerning the program, funding priorities, application process, and amount of funding available.

DATES: An original completed and collated capital grant application (plus three completed collated copies) for assistance under the VA's Homeless Providers Grant and Per Diem Program must be received in the Grant and Per Diem Field Office, by 4 p.m. Eastern Time on June 28, 2007. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays or other delivery-related problems.

For a Copy of the Application Package: Download directly from VA's Grant and Per Diem Program Web page at: http://www.va.gov/homeless/page.cfm?pg=3 or http://www.grants.gov/. Questions should be referred to the Grant and Per Diem Program at (toll-free) 1-877-332-0334. For a document relating to the VA Homeless Providers Grant and Per Diem Program, see the final rule published in the Federal Register on September 26, 2003.

Submission of Application: An original completed and collated grant application (plus three copies) and a cover letter clearly stating under which funding priority applicants wish to be considered must be submitted to the following address:

VA Homeless Providers Grant and Per Diem Field Office, 10770 N. 46th Street, Suite C-200, Tampa, FL 33617. Applications must be received in the Grant and Per Diem Field office by the application deadline. Applications must arrive as a complete package. Materials arriving separately will not be included in the application package for consideration and may result in the application being rejected or not funded.

FOR FURTHER INFORMATION CONTACT: Dr. Guy Liedke, VA Homeless Providers Grant and Per Diem Program, Department of Veterans Affairs, 10770 N. 46th Street, Suite C-200, Tampa, FL 33617; (toll-free) 1-877-332-0334.

SUPPLEMENTARY INFORMATION: This notice announces the availability of capital funds for assistance under VA's Homeless Providers Grant and Per Diem Program for eligible entities to: (1) Expand existing transitional housing projects; or (2) develop new transitional housing programs. Supportive service centers will only be considered under funding priority 3. Funding applied for under the capital grant component may be used for: (1) Remodeling or alteration of existing buildings; (2) acquisition of buildings; (3) acquisition and rehabilitation of buildings; (4) new construction; and (5) acquisition of vans (in connection with a new or existing Grant and Per Diem Grant project) for outreach and transportation for homeless veterans. Funding applied for under this notice is authorized by Public Law 109-461, § 703, known as the Veterans Benefit, Health Care and Information Technology Act of 2006, codified at 38 U.S.C. 2011, 2012, 2061, 2064, and may be used for aid for supportive housing and service centers. For eligibility criteria please refer to the final rule published in the Federal Register on September 26, 2003.

Capital grant applicants may not receive assistance to replace funds provided by any State or local government to assist homeless persons. A proposal for an existing project that seeks to shift its focus by changing the population being served or the precise mix of services being offered is not eligible for consideration. No more than 25 percent of housing and services available in projects funded through this grant program may be provided to clients who are not receiving those services as veterans.

VA is pleased to issue this notice of Fund Availability (NOFA) for the Homeless Providers Grant and Per Diem Program. The Department expects to award approximately $14 million under the capital grant component.

Funding available under this NOFA is being offered to help offset the capital expenses of existing state and local governments, Indian Tribal governments, faith-based, and community-based organizations that are capable of creating and providing supported transitional housing for homeless veterans. The District of Columbia, the Commonwealth of Puerto Rico, any territory or possession of the United States, are considered eligible entities under the definition of “State” in the final rule, § 61.1 Definitions.

Per diem for these programs is requested in the grant application and may be paid at the time of grant project completion. It should be noted that VA per diem payment is limited to the applicant's cost of care per eligible veteran minus other sources of payments to the applicant for furnishing services to homeless veterans up to the per day rate VA pays for State Home Domiciliary care. Awardees will be required to support their request for per diem payment with adequate fiscal documentation as to program income and expenses.

Interested organizations should know that the vast majority of homeless veterans in this country suffer from mental illness or substance abuse disorders or are dually diagnosed with both mental illness and substance abuse disorders. In addition, many homeless veterans have serious medical problems. Collaboration with VA medical centers, VA community-based outpatient clinics or other health care providers as well as with VA and other benefit providers is an important aspect of assuring that homeless veterans have access to appropriate health care services. VA considers this program an important part of our effort to end chronic homelessness among veterans.

It is important to be aware that VA places great emphasis on responsibility and accountability. VA has procedures in place to verify the completion of the capital grant as well as monitor services provided to homeless veterans and outcomes associated with the services provided in grant and per diem-funded programs. Applicants should be aware of the following:

All awardees that are conditionally selected in response to this NOFA must meet the Life Safety Code of the National Fire Protection Association as it relates to their specific facility. Applicants should note that all facilities are to be sprinkled unless they are specifically exempted under the Life Safety Code and make consideration of this when submitting their capital grant applications. VA will conduct an inspection prior to awardees being able to submit request for per diem payment to ensure this requirement is met.

Upon capital grant completion each program seeking per diem will have a liaison appointed from a nearby VA medical facility to provide oversight and monitor services provided to homeless veterans in the per diem-funded program.

Monitoring will include at a minimum an annual review of each per diem program's progress toward meeting internal goals and objectives in helping veterans attain housing stability, adequate income support, and self sufficiency as identified in each per diem program's original application. Monitoring will also include a review of the agency's income and expenses as they relate to this project to ensure per diem payment is accurate.

Each per diem-funded program will participate in VA's national program monitoring and evaluation system administered by VA's Northeast Program Evaluation Center (NEPEC). NEPEC's monitoring procedures will be used to determine successful accomplishment of these housing outcomes for each per diem-funded program.

Authority: Funding applied for under this notice is authorized by Public Law 109-461, § 703, known as the Veterans Benefit, Health Care and Information Technology Act of 2006, codified at 38 U.S.C. 2011, 2012, 2061, 2064, and may be used for aid for supportive housing. The program is implemented by the final rule codified at 38 CFR part 61.0. The final rule was published in the Federal Register on September 26, 2003, the regulations can be found in their entirety in 38 CFR 61.0 through 61.82. Funds made available under this notice are subject to the requirements of those regulations.

Allocation: Approximately $14 million is available for the capital grant component. Capital grant awards will be limited to transitional housing projects, (service center programs will only be considered in this round under funding priority 3).

Vans must be directly connected to a new or existing Grant and Per Diem Grant project and will be limited to one per project. These van awards do not count against the one per tax identification number for non-profit entitles or state and local government entities. Per diem payments to capital grant recipients are subject to the recipients maintaining the program for which the grant was awarded.

Funding Priorities: VA is offering to eligible applicants funding priorities for transitional housing and services to homeless women veterans and homeless women who have care of their dependent children, housing and services in area's experiencing the lingering effects of Hurricane's Katrina and Rita, and service centers for Indian Tribal Governments. Additionally, VA is encouraging interested state and local governments, Indian tribal governments, and faith-based and community-based organizations to apply for funding under this NOFA. In this round of capital grant funding, VA expects to award funding to create approximately 900 community-based supported housing beds.

Funding priority 1. VA is offering the opportunity for providers who are willing to create new projects for women and women with care of dependent children. Of those eligible entities in the first funding priority that are legally fundable, the highest scoring applicants will be funded first until approximately $1.5 million is awarded. Applicants not funded in this priority will be considered in the fourth funding priority.

Funding priority 2. VA is offering the opportunity for providers who are willing to create new or expand existing projects for homeless veterans due to the lingering effects of Hurricanes Katrina and Rita. Applicants whose projects are physically located in FEMA designated disaster declaration parishes or counties, that were eligible for “Individual Assistance”, as outlined in the tables below, that are eligible entities, will be considered in the second funding priority. Of those eligible entities in the second funding priority, that are legally fundable, the highest scoring applicants will be funded first until approximately $2.5 million is awarded. Applicants not funded in this priority will be placed in the fourth funding priority. Should not enough eligible projects be funded under the second funding priority, funds not expended in this priority will fall to the fourth funding priority.

Funding priority 3. Indian tribal governments that wish to establish service centers for homeless veterans will be considered in the third funding priority as applicable. Of those eligible entities in the third funding priority that are legally fundable, the highest scoring applicants will be funded first until approximately $1 million is awarded. Applicants not funded in this priority will be placed in the fourth funding priority. Should not enough eligible projects be funded under the third funding priority, funds not expended in this priority will fall to the fourth funding priority.

Funding priority 4. VA is encouraging interested, state and local governments, Indian tribal governments, and faith-based and community-based organizations to apply for funding under this NOFA to create transitional housing and services for all homeless veterans. Eligible entities that are state and local governments, Indian Tribal governments, faith-based, and community-based organizations, will be considered in the fourth funding priority as applicable. Of those eligible entities that are legally fundable, the highest-ranked applications for which funding is available, will be conditionally selected for eligibility to receive a capital grant in accordance with their ranked order until funding is expended (approximately $9 million).

Hurricane Katrina
FEMA-1605-DR, Alabama | Declaration Date: August 29, 2005.
Baldwin, Marengo, Mobile, Pickens, Greene, Hale, Tuscaloosa, and Washington Counties.
FEMA-1603-DR, Louisiana | Declaration Date: August 29, 2005.
The parishes of Acadia, Ascension, Assumption, Calcasieu, Cameron, East Baton Rouge, East Feliciana, Iberia, Iberville, Jefferson, Jefferson Davis, Lafayette, Lafourche, Livingston, Orleans, Pointe Coupee, Plaquemines, St. Bernard, St. Charles, St. Helena, St. James, St. John, St. Mary, St. Martin, St. Tammany, Tangipahoa, Terrebonne, Vermilion, Washington, West Baton Rouge, and West Feliciana.
FEMA-1604-DR, Mississippi | Declaration Date: August 29, 2005.
Adams, Amite, Attala, Claiborne, Choctaw, Clarke, Copiah, Covington, Forrest, Franklin, George, Greene, Hancock, Harrison, Hinds, Holmes, Humphreys, Jackson, Jasper, Jefferson, Jefferson Davis, Jones, Kemper, Lamar, Lauderdale, Lawrence, Leake, Lincoln, Lowndes, Madison, Marion, Neshoba, Newton, Noxubee, Oktibbeha, Pearl River, Perry, Pike, Rankin, Scott, Simpson, Smith, Stone, Walthall, Warren, Wayne, Wilkinson, Winston, and Yazoo Counties.
Hurricane Rita
FEMA-1607-DR, Louisiana | Declaration Date: September 24, 2005.
The parishes of Acadia, Allen, Ascension, Cameron, Calcasieu, Beauregard, Evangeline, Iberia, Jefferson, Jefferson Davies, Lafayette, Lafourche, Livingston, Plaquemines, Sabine, St. Landry, St. Martin, St. Mary, Terrebonne, Vermilion, Vernon, and West Baton Rouge.
FEMA-1606-DR, Texas | Declaration Date: September 24, 2005.
The counties of Angelina, Brazoria, Chambers, Fort Bend, Galveston, Hardin, Harris, Jasper, Jefferson, Liberty, Montgomery, Nacogdoches, Newton, Orange, Polk, Sabine, San Augustine, San Jacinto, Shelby, Trinity, Tyler, and Walker.

Methodology: VA will review all capital grant applications in response to this notice of funding availability as follows: VA will group the applicants into the funding priorities categories. Applicants will then be ranked within their respective funding category based on score and any ranking criteria set forth in that funding category only if the applicant scores at least 600 cumulative points and receives points under the criteria in paragraphs (b), (c), (d), (e) and (i) of § 61.13.

The highest-ranked application for which funding is available, within the highest funding category, will be conditionally selected in accordance with their ranked order until VA reaches the projected amount of funding for each category. If funds are still available after selection of those applications in the highest priority group VA will continue to conditionally select applicants in lower priority categories in accordance with the selection method set forth in the final rule § 61.14.

Application Requirements: Applicants must include a cover letter clearly stating under which funding priority they wish to be considered. The grant application requirements will be specified in the application package. Applicants should be careful to complete the proper application package. Submission of the incorrect or incomplete application package will result in the application being rejected at threshold. The packages include all required forms and certifications. Selections will be made based on criteria described in the application, final rule, and NOFA. Applicants who are conditionally selected will be notified of any additional information needed to confirm or clarify information provided in the application. Applicants will then be notified of the deadline to submit such information. If an applicant is unable to meet any conditions for grant award within the specified time frame, VA reserves the right to not award funds and to use the funds available for other grant and per diem applicants.

Dated: April 30, 2007.
Gordon H. Mansfield,
Deputy Secretary of Veterans Affairs.

[FR Doc. E7-8528 Filed 5-3-07; 8:45 am]

BILLING CODE 8320-01-P